DEPARTMENT OF ENERGY

Federal Energy Regulatory Commission

Combined Notice of Filings #1

Take notice that the Commission received the following exempt wholesale generator filings:

Docket Numbers: EG23-248-000.

Applicants: BRP Hydra BESS LLC.

Description: BRP Hydra BESS LLC submits Notice of Self-Certification of Exempt Wholesale Generator Status.

Filed Date: 8/7/23.

Accession Number: 20230807-5131.

Comment Date: 5 p.m. ET 8/28/23.

Docket Numbers: EG23-249-000.

Applicants: BRP Paleo BESS LLC.

Description: BRP Paleo BESS LLC submits Notice of Self-Certification of Exempt Wholesale Generator Status.

Filed Date: 8/7/23.

Accession Number: 20230807-5132.

Comment Date: 5 p.m. ET 8/28/23.

Docket Numbers: EG23-250-000.

Applicants: BRP Pavo BESS LLC.

Description: BRP Pavo BESS LLC submits Notice of Self-Certification of Exempt Wholesale Generator Status.

Filed Date: 8/7/23.

Accession Number: 20230807-5134.

Comment Date: 5 p.m. ET 8/28/23.

Docket Numbers: EG23-251-000.

Applicants: BRP Tortolas BESS LLC.

Description: BRP Tortolas BESS LLC submits Notice of Self-Certification of Exempt Wholesale Generator Status.

Filed Date: 8/7/23.

Accession Number: 20230807-5136.

Comment Date: 5 p.m. ET 8/28/23.

Docket Numbers: EG23-252-000.

Applicants: BRP Dickens BESS LLC.

Description: BRP Dickens BESS LLC submits Notice of Self-Certification of Exempt Wholesale Generator Status.

Filed Date: 8/7/23.

Accession Number: 20230807-5139.

Comment Date: 5 p.m. ET 8/28/23.

Take notice that the Commission received the following Complaints and Compliance filings in EL Dockets:

Docket Numbers: EL23-90-000; QF03-76-005.

Applicants: Boyd, Michael E., Californians for Renewable Energy, Inc. (CARE), Michael E. Boyd v. California Independent System Operator Corporation (CAISO).

Description: Petition for Enforcement Pursuant to Section 210(H) of the Public Utility Regulatory Policies Act of 1978 of CAlifornians for Renewable Energy, Inc. (CARE), Michael E. Boyd.

Filed Date: 8/7/23.

Accession Number: 20230807-5058.

Comment Date: 5 p.m. ET 9/6/23.

Take notice that the Commission received the following electric rate filings:

Docket Numbers: ER10-2434-012; ER10-2436-012; ER10-2467-012; ER17-1666-009; ER18-1709-004; ER19-1635-003.

Applicants: Glaciers Edge Wind Project, LLC, Stoneray Power Partners, LLC, Red Pine Wind Project, LLC, Hoosier Wind Project, LLC, Wapsipinicon Wind Project, LLC, Fenton Power Partners I, LLC.

Description: Supplement to May 1, 2023, Notice of Change in Status of Fenton Power Partners I, LLC, et al.

Filed Date: 8/7/23.

Accession Number: 20230807-5195

Comment Date: 5 p.m. ET 8/28/23.

Docket Numbers: ER23-1829-000.

Applicants: Shady Oaks Wind 2, LLC.

Description: Supplement to May 4, 2023 Shady Oaks Wind 2, LLC Application for MBR Authorization with Waivers.

Filed Date: 8/4/23.

Accession Number: 20230804-5068.

Comment Date: 5 p.m. ET 8/14/23.

Docket Numbers: ER23-1874-001.

Applicants: PJM Interconnection, L.L.C.

Description: Tariff Amendment: Response to July 7, 2023 Deficiency Notice to be effective 7/11/2023.

Filed Date: 8/7/23.

Accession Number: 20230807-5162.

Comment Date: 5 p.m. ET 8/28/23.

Docket Numbers: ER23-2507-000.

Applicants: Central Hudson Gas & Electric Corporation, New York Independent System Operator, Inc.

Description: § 205(d) Rate Filing: Central Hudson Gas & Electric Corporation submits tariff filing per 35.13(a)(2)(iii: Central Hudson 205 re: Rate Schedule 19 Att 4 Formula Rate Protocols and Tmplt to be effective 9/27/2023.

Filed Date: 7/28/23.

Accession Number: 20230728-5157.

Comment Date: 5 p.m. ET 8/18/23.

Docket Numbers: ER23-2508-000.

Applicants: Diablo Winds, LLC.

Description: Compliance filing: Notice of Change in Status and Revised Market-Based Rate Tariff to be effective 7/29/2023.

Filed Date: 7/28/23.

Accession Number: 20230728-5164.

Comment Date: 5 p.m. ET 8/18/23.

Docket Numbers: ER23-2578-000.

Applicants: Southwest Power Pool, Inc.

Description: § 205(d) Rate Filing: 4120 Southwestern Power Admin/City of Carthage MO Int Agr to be effective 8/1/2023.

Filed Date: 8/7/23.

Accession Number: 20230807-5129.

Comment Date: 5 p.m. ET 8/28/23.

Docket Numbers: ER23-2579-000.

Applicants: Union Electric Company.

Description: § 205(d) Rate Filing: Monthly System Support Resource Payment for Rush Island Energy Center to be effective 9/1/2023.

Filed Date: 8/7/23.

Accession Number: 20230807-5155.

Comment Date: 5 p.m. ET 8/28/23.

Docket Numbers: ER23-2580-000.

Applicants: PJM Interconnection, L.L.C.

Description: Tariff Amendment: Notice of Cancellation of WMPA, SA No. 5413; Queue No. AD2-210 re: Breach to be effective 10/6/2023.

Filed Date: 8/7/23.

Accession Number: 20230807-5159.

Comment Date: 5 p.m. ET 8/28/23.

Docket Numbers: ER23-2581-000.

Applicants: Alabama Power Company.

Description: Tariff Amendment: APCo-FPL TFCAT A&R Service Agreements Termination Filing to be effective 5/31/2023.

Filed Date: 8/8/23.

Accession Number: 20230808-5016.

Comment Date: 5 p.m. ET 8/29/23.

Docket Numbers: ER23-2582-000.

Applicants: Southwest Power Pool, Inc.

Description: § 205(d) Rate Filing: Revisions to Attachment AE Regarding the Application of Emergency Limits to be effective 11/1/2023.

Filed Date: 8/8/23.

Accession Number: 20230808-5039.

Comment Date: 5 p.m. ET 8/29/23.

Docket Numbers: ER23-2583-000.

Applicants: Power Authority of the State of New York, New York Independent System Operator, Inc.

Description: § 205(d) Rate Filing: Power Authority of the State of New York submits tariff filing per 35.13(a)(2)(iii: NYISO-NYPA Joint 205: LGIA Cider Solar Project SA2773 (CEII) to be effective 7/25/2023.

Filed Date: 8/8/23.

Accession Number: 20230808-5049.

Comment Date: 5 p.m. ET 8/29/23.

Docket Numbers: ER23-2584-000.

Applicants: Ameren Illinois Company.

Description: § 205(d) Rate Filing: Reimb. Agrmt—AIC and IMEA Roodhouse—Rate Sch. 159 to be effective 8/9/2023.

Filed Date: 8/8/23.

Accession Number: 20230808-5051.

Comment Date: 5 p.m. ET 8/29/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: August 8, 2023.
Debbie-Anne A. Reese,
Deputy Secretary.

[FR Doc. 2023-17381 Filed 8-11-23; 8:45 am]

BILLING CODE 6717-01-P